DEPARTMENT OF THE INTERIOR

National Park Service

Minor Boundary Revision at Antietam National Battlefield

AGENCY: National Park Service, Interior.

ACTION: Announcement of park boundary revision.

SUMMARY: Notice is given that the boundary of Antietam National Battlefield has been revised pursuant to the Acts as specified below, to encompass lands depicted on Drawing 302/92500, Segment 05, Antietam National Battlefield, revised July 1, 2005, prepared by the National Park Service. The revision to the boundary includes Tract Number 05-171, as depicted on the map.

FOR FURTHER INFORMATION CONTACT: Superintendent, Antietam National Battlefield, P.O. Box 158, Sharpsburg, Maryland 21782-0158.

SUPPLEMENTARY INFORMATION: The Act of August 30, 1890 (26 Stat. 401) authorized surveying, locating and preserving the lines of battle of the Army of the Potomac and of the Army of Northern Virginia at Antietam. Sections 7(c) (1)(i) and 7(c) (1)(ii) of the Land and Water Conservation Fund Act, as amended by the Act of June 10, 1977 (Pub. L. 95-42, 91 Stat. 210), and the Act of March 10, 1980 (Pub. L. 103-333, 110 Stat. 4194) further authorized the Secretary of Interior to make minor revisions in the boundaries whenever the Secretary determines that it is necessary for the preservation, protection, interpretation or management of an area.

The map is on file and available for inspection in the Land Resources Program Center, National Capital Regional Office, 1100 Ohio Drive, SW., Washington, DC 20242, and in the Offices of the National Park Service, Department of the Interior, Washington DC 20013-7127.

Dated: August 22, 2005.
Joseph M. Lawler,
Regional Director, National Capital Region.

Editorial Note: This document was received in the Office of the Federal Register on December 22, 2005.

[FR Doc. E5-7889 Filed 12-27-05; 8:45 am]

BILLING CODE 4312-58-P